DEPARTMENT OF TRANSPORTATION

National Highway Traffic Safety Administration

[Docket No. NHTSA-2009-0114; Notice 1]

Bentley Motors, Inc., Receipt of Petition for Decision of Inconsequential Noncompliance

Bentley Motors, Inc. (Bentley) has determined that certain passenger car headlamps manufactured for the 2005-2008 Bentley Arnage and Azure passenger cars do not fully comply with paragraph 49 CFR 571.108, Federal Motor Vehicle Safety Standard (FMVSS) No. 108 Lamps, Reflective Devices and Associated Equipment. Bentley has filed an appropriate report pursuant to 49 CFR part 573, Defect and Noncompliance Responsibility and Reports.

Pursuant to 49 U.S.C. 30118(d) and 30120(h) (see implementing rule at 49 CFR part 556), Bentley has petitioned for an exemption from the notification and remedy requirements of 49 U.S.C. Chapter 301 on the basis that this noncompliance is inconsequential to motor vehicle safety.

This notice of receipt of Bentley's petition is published under 49 U.S.C. 30118 and 30120 and does not represent any agency decision or other exercise of judgment concerning the merits of the petition.

Bentley estimated that 1,115 model year 2005-2008 Bentley Arnage and Azure passenger cars manufactured between January 13, 2004 and November 9, 2007 are involved. Bentley also stated that based on its preliminary investigation it believes that only 50% of those vehicles have the subject noncompliance.

Paragraphs S7.8.5.3(b) of FMVSS No. 108 require in pertinent part:

S7.8.5.3 Visual/optical aiming. Each visually/optically aimable headlamp shall be designed to conform to the following requirements: * * *

(b) Horizontal aim, lower beam. There shall be no adjustment of horizontal aim unless the headlamp is equipped with a horizontal VHAD. If the headlamp has a VHAD, it shall be set to zero.

Bentley explained that the noncompliance with FMVSS No. 108 is that horizontal aim adjustment of the subject lower beams is possible due to the absence of a blanking cap over the lower beam horizontal adjustment screw.

Bentley also stated that it discovered this noncompliance as a result of a special production line quality audit investigation.

Bentley further states that it believes that this noncompliance is inconsequential to motor vehicle safety for three reasons. First, the adjustment screw is always hidden by an engine cover when the vehicle's hood is open. Second, when the engine cover is removed the screw is still hidden down a small dark guide hole, so the screw is not immediately visible and it is not immediately obvious that a disabling cap is not present. Last, the workshop manual clearly identifies that this screw is not functional on North American specification vehicles so no vehicle repairer would ever need to try to search for and adjust the screw in question.

Bentley also has informed NHTSA that it has corrected the problem that caused this noncompliance.

In summation, Bentley states that it believes that the noncompliance is inconsequential to motor vehicle safety and that no corrective action is warranted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to: U.S. Department of Transportation, Docket Operations, M-30, West Building Ground Floor, Room W12-140, 1200 New Jersey Avenue, SE., Washington, DC 20590. The Docket Section is open on weekdays from 10 am to 5 pm except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Anyone is able to search the electronic form of all comments received into any of our dockets by the name of the individual submitting the comment (or signing the comment, if submitted on behalf of an association, business, labor union, etc.). DOT's complete Privacy Act Statement in the Federal Register published on April 11, 2000 (65 FR 19477-78).

You may view documents submitted to a docket at the address and times given above. You may also view the documents on the Internet at http://www.regulations.gov by following the online instructions for accessing the dockets available at that Web site.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: August 31, 2009.

Authority: 49 U.S.C. 30118, 30120: delegations of authority at CFR 1.50 and 501.8.

Issued on: July 23, 2009.
Claude H. Harris,
Director, Office of Vehicle Safety Compliance.

[FR Doc. E9-18145 Filed 7-29-09; 8:45 am]

BILLING CODE 4910-59-P